DEPARTMENT OF COMMERCE

International Trade Administration

A-401-808

Purified Carboxymethylcellulose from Sweden: Extension of Time Limit for Preliminary Results of Antidumping Duty Administrative Review

AGENCY: Import Administration, International Trade Administration, Department of Commerce.

EFFECTIVE DATE: March 18, 2008.

FOR FURTHER INFORMATION CONTACT: Patrick Edwards or Angelica Mendoza, AD/CVD Operations, Office 7, Import Administration, International Trade Administration, U.S. Department of Commerce, 14th Street and Constitution Avenue, NW, Washington, DC 20230; telephone: (202) 482-8029 or (202) 482-3019, respectively.

SUPPLEMENTARY INFORMATION:

Background

On August 24, 2007, the Department of Commerce (“the Department”) published a notice of initiation of administrative review of the antidumping duty order on purified carboxymethylcellulose from Sweden, covering the period July 1, 2006, through June 30, 2007. See Initiation of Antidumping and Countervailing Duty Administrative Reviews and Request for Revocation in Part, 72 FR 48613 (August 24, 2007). The preliminary results for this review are currently due no later than April 1, 2008.

Statutory Time Limits

Section 751(a)(3)(A) of the Tariff Act of 1930, as amended (“the Act”), requires the Department to issue the preliminary results of an administrative review within 245 days after the last day of the anniversary month of an order for which a review is requested and the final results of review within 120 days after the date on which the preliminary results are published. If it is not practicable to complete the review within the time period, section 751(a)(3)(A) of the Act allows the Department to extend these deadlines to a maximum of 365 days and 180 days, respectively.

Extension of Time Limits for Preliminary Results

The deadline for the preliminary results of this administrative review is currently April 1, 2008. The Department has determined that completion of the preliminary results within the statutory time period is not practicable. On December 20, 2007, the Department initiated a sales-below-cost investigation for CP Kelco A.B. and requested that the company respond to Section D of the Department’s antidumping duty (cost) questionnaire. See Letter from Angelica L. Mendoza, Program Manager, to CP Kelco A.B., dated December 20, 2007, and attached memorandum. CP Kelco A.B. submitted is response to Section D on January 8, 2008. The Department has not yet released a supplemental cost questionnaire to CP Kelco A.B. On February 1, 2008, the Department issued a section A through C supplemental questionnaire to respondent CP Kelco A.B. CP Kelco A.B. submitted its sections A through C supplemental sales questionnaire response on February 26, 2008. The Department requires additional time to review and analyze CP Kelco A.B.’s questionnaire responses, to issue a supplemental cost questionnaire, to issue additional supplemental sales questionnaires if necessary, and to conduct verification of the questionnaire responses, if necessary.

Therefore, given the additional time needed to conduct a complete analysis for this administrative review, in accordance with section 751(a)(3)(A) of the Act, the Department is extending the time period for completion of the preliminary results to 365 days. Therefore, the preliminary results are now due no later than July 30, 2008. The final results continue to be due no later than 120 days after publication of the notice of the preliminary results.

This notice is published in accordance with sections 751(a)(3)(A) and 777(i)(1) of the Act.

Dated: March 11, 2008.
Stephen J. Claeys,
Deputy Assistant Secretary for Import Administration.

[FR Doc. E8-5420 Filed 3-17-08; 8:45 am]

BILLING CODE 3510-DS-S